DEPARTMENT OF ENERGY

Federal Energy Regulatory Commission

Combined Notice of Filings

Take notice that the Commission has received the following Natural Gas & Oil Pipeline Rate and Refund Report filings:

Filings Instituting Proceedings

Docket Numbers: PR23-58-000.

Applicants: ONEOK Field Services Company, L.L.C.

Description: § 284.123(g) Rate Filing: OFS Cost of Service Rate Filing to be effective 6/1/2023.

Filed Date: 6/30/23.

Accession Number: 20230630-5002.

Comment Date: 5 p.m. ET 7/21/23.

Protest Date: 5 p.m. ET 8/29/23.

Docket Numbers: RP23-854-000.

Applicants: Maritimes & Northeast Pipeline, L.L.C.

Description: § 4(d) Rate Filing: Negotiated Rates—Northern to Direct Energy 2902 eff 7-1-23 to be effective 7/1/2023.

Filed Date: 6/29/23.

Accession Number: 20230629-5074.

Comment Date: 5 p.m. ET 7/11/23.

Docket Numbers: RP23-855-000.

Applicants: Transwestern Pipeline Company, LLC.

Description: § 4(d) Rate Filing: Negotiated Rate Filing—SoCal to be effective 7/1/2023.

Filed Date: 6/29/23.

Accession Number: 20230629-5079.

Comment Date: 5 p.m. ET 7/11/23.

Docket Numbers: RP23-856-000.

Applicants: El Paso Natural Gas Company, L.L.C.

Description: § 4(d) Rate Filing: Negotiated Rate Agreement Update (Conoco July 2023) to be effective 7/1/2023.

Filed Date: 6/29/23.

Accession Number: 20230629-5080.

Comment Date: 5 p.m. ET 7/11/23.

Docket Numbers: RP23-857-000.

Applicants: Algonquin Gas Transmission, LLC.

Description: § 4(d) Rate Filing: Negotiated Rates—Various Releases eff 7-1-23 to be effective 7/1/2023.

Filed Date: 6/29/23.

Accession Number: 20230629-5112.

Comment Date: 5 p.m. ET 7/11/23.

Docket Numbers: RP23-858-000.

Applicants: Equitrans, L.P.

Description: § 4(d) Rate Filing: Equitrans Clean-Up Filing—June 2023 to be effective 8/1/2023.

Filed Date: 6/30/23.

Accession Number: 20230630-5003.

Comment Date: 5 p.m. ET 7/12/23.

Docket Numbers: RP23-859-000.

Applicants: Cove Point LNG, LP.

Description: Compliance filing: Cove Point—2023 Penalty Revenue Distribution to be effective N/A.

Filed Date: 6/30/23.

Accession Number: 20230630-5007.

Comment Date: 5 p.m. ET 7/12/23.

Docket Numbers: RP23-860-000.

Applicants: Eastern Gas Transmission and Storage, Inc.

Description: Compliance filing: EGTS—2023 Overrun and Penalty Revenue Distribution to be effectiveN/A.

Filed Date: 6/30/23.

Accession Number: 20230630-5009.

Comment Date: 5 p.m. ET 7/12/23.

Docket Numbers: RP23-861-000.

Applicants: Columbia Gas Transmission, LLC.

Description: § 4(d) Rate Filing: Negotiated Rate Amendment—Macquarie 279977-2 to be effective 7/1/2023.

Filed Date: 6/30/23.

Accession Number: 20230630-5024.

Comment Date: 5 p.m. ET 7/12/23.

Docket Numbers: RP23-862-000.

Applicants: Texas Eastern Transmission, LP.

Description: § 4(d) Rate Filing: TETLP EPC AUG 2023 FILING to be effective 8/1/2023.

Filed Date: 6/30/23.

Accession Number: 20230630-5037.

Comment Date: 5 p.m. ET 7/12/23.

Docket Numbers: RP23-863-000.

Applicants: Tennessee Gas Pipeline Company, L.L.C.

Description: § 4(d) Rate Filing: TGP Powerserve to be effective 8/1/2023.

Filed Date: 6/30/23.

Accession Number: 20230630-5049.

Comment Date: 5 p.m. ET 7/12/23.

Docket Numbers: RP23-864-000.

Applicants: Alliance Pipeline L.P.

Description: § 4(d) Rate Filing: Negotiated Rates—Various July 1 2023 Releases to be effective 7/1/2023.

Filed Date: 6/30/23.

Accession Number: 20230630-5052.

Comment Date: 5 p.m. ET 7/12/23.

Docket Numbers: RP23-865-000.

Applicants: ETC Tiger Pipeline, LLC.

Description: § 4(d) Rate Filing: Amended NRA #2—BP Energy Co to be effective 7/1/2023.

Filed Date: 6/30/23.

Accession Number: 20230630-5055.

Comment Date: 5 p.m. ET 7/12/23.

Docket Numbers: RP23-866-000.

Applicants: Northern Natural Gas Company.

Description: § 4(d) Rate Filing: 20230630 Negotiated Rate to be effective 7/1/2023.

Filed Date: 6/30/23.

Accession Number: 20230630-5065.

Comment Date: 5 p.m. ET 7/12/23.

Docket Numbers: RP23-867-000.

Applicants: Northern Border Pipeline Company.

Description: § 4(d) Rate Filing: Negotiated Rate Agreement—BP Energy 283150 to be effective 7/1/2023.

Filed Date: 6/30/23.

Accession Number: 20230630-5068.

Comment Date: 5 p.m. ET 7/12/23.

Docket Numbers: RP23-868-000.

Applicants: MIGC LLC.

Description: Request for Waiver of Requirements of Annual Fuel Retention Percentage Tracker of MIGC LLC.

Filed Date: 6/30/23.

Accession Number: 20230630-5071.

Comment Date: 5 p.m. ET 7/12/23.

Docket Numbers: RP23-869-000.

Applicants: Transcontinental Gas Pipe Line Company, LLC.

Description: § 4(d) Rate Filing: Negotiated Rates—Cherokee AGL—Replacement Shippers—Jul 2023 to be effective 7/1/2023.

Filed Date: 6/30/23.

Accession Number: 20230630-5072.

Comment Date: 5 p.m. ET 7/12/23.

Docket Numbers: RP23-870-000.

Applicants: El Paso Natural Gas Company, L.L.C.

Description: § 4(d) Rate Filing: SOC Linepack Level Update to be effective 8/1/2023.

Filed Date: 6/30/23.

Accession Number: 20230630-5073.

Comment Date: 5 p.m. ET 7/12/23.

Docket Numbers: RP23-871-000.

Applicants: Gulf South Pipeline Company, LLC.

Description: § 4(d) Rate Filing: Amendment to Neg Rate Agmts (FPL 41618, 41619 eff 7-1-23) to be effective 7/1/2023.

Filed Date: 6/30/23.

Accession Number: 20230630-5095.

Comment Date: 5 p.m. ET 7/12/23.

Docket Numbers: RP23-872-000.

Applicants: Gulf South Pipeline Company, LLC.

Description: § 4(d) Rate Filing: Remove Agmts re Permanent Capacity Release (Panda 624) to be effective 7/1/2023.

Filed Date: 6/30/23.

Accession Number: 20230630-5096.

Comment Date: 5 p.m. ET 7/12/23.

Docket Numbers: RP23-873-000.

Applicants: Gulf South Pipeline Company, LLC.

Description: § 4(d) Rate Filing: Cap Rel Neg Rate Agmt (Osaka 46429 to Texla 56401) to be effective 7/1/2023.

Filed Date: 6/30/23.

Accession Number: 20230630-5098.

Comment Date: 5 p.m. ET 7/12/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-1001-000.

Applicants: Eastern Gas Transmission and Storage, Inc.

Description: Report Filing: EGTS—Operational Gas Sales Report—2023 to be effective N/A.

Filed Date: 6/30/23.

Accession Number: 20230630-5014.

Comment Date: 5 p.m. ET 7/12/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 30, 2023.
Kimberly D. Bose,
Secretary.

[FR Doc. 2023-14346 Filed 7-6-23; 8:45 am]

BILLING CODE 6717-01-P